ENVIRONMENTAL PROTECTION AGENCY

40 CFR Part 81

[EPA-HQ-OAR-2003-0061; FRL-8490-8]

Air Quality Designations for the Fine Particle (PM2.5) National Ambient Air Quality Standards; Notice of Actions Denying Petitions for Reconsideration

AGENCY: Environmental Protection Agency (EPA).

ACTION: Notice of actions denying petitions for reconsideration.

SUMMARY: The EPA is providing notice that it has responded to sixteen petitions for reconsideration of the air quality designations for the fine particle (PM2.5) national ambient air quality standards (NAAQS). The PM2.5 designations were published in the Federal Register on January 5, 2005, and a supplemental notice to this action was published in the Federal Register on April 14, 2005. Subsequent to the publication of this action, a total of sixteen petitions for reconsideration were received by EPA. The EPA considered the petitions and supporting information along with information contained in the rulemaking docket in reaching a decision on the petitions. EPA Administrator Stephen L. Johnson denied the petitions for reconsideration in separate letters to the petitioners issued between December 2005 and October 2007. The letters explain EPA's reasons for the denials.

FOR FURTHER INFORMATION CONTACT: Geoffrey L. Wilcox, U.S. EPA, Office of General Counsel, Mail Code 2344A, 1200 Pennsylvania Avenue, NW., Washington, DC 20460, telephone (202) 564-5601, e-mail at wilcox.geoffrey@epa.gov.

SUPPLEMENTARY INFORMATION:

I. How Can I Get Copies of This Document and Other Related Information?

This Federal Register notice, the petitions for reconsideration, and the letters denying the petitions for reconsideration are available in the docket that EPA established for the air quality designations for the fine particle NAAQS (docket number EPA-HQ-OAR-2003-0061). The table below identifies the petitions received by EPA, the date EPA received the petition, the document identification number for the petition, the date of EPA's response, and the document identification number for EPA's response. (Note that all the document numbers listed in the table are in the form of “EPA-HQ-OAR-2003-0061-xxxx.”)

Petitioner | Date of petition to EPA | Petition: Document No. in docket | Date of EPA response | EPA response: Document No. in docket
State of Connecticut | 2/15/2005 | −0756 | 12/5/2005 | −0765.
Commonwealth of Virginia | 2/18/2005 | −0665 | 12/5/2005 | −0757.
State of Maryland | 2/22/2005 | −0666 and −0667 | 12/5/2005 | −0758.
Guilford County, NC | 2/22/2005 | −0677 | 12/5/2005 | −0759 and −0759.1.
State of North Carolina | 2/22/2005 | −0676 | 12/5/2005 | −0760.
State of Alabama | 1/20/2005 | −0672 | 12/5/2005 | −0761.
State of Georgia | 2/22/2005 | −0673 | 12/5/2005 | −0762.
Southwestern PA Growth Alliance | 3/4/2005 | −0766, 0766.15, 0766.16, 0766.17 | 12/5/2005 | −0763.
Oakland County, MI (first petition) | 3/7/2005 | −0636 | 1/20/2006 | −0740.
State of Michigan | 2/22/2005 | −0635 | 1/20/2006 | −0737.
State of West Virginia | 2/21/2005 | −0661 | 1/20/2006 | −0735.
State of Ohio | 2/14/2005 | −0681 | 1/20/2006 | −0736.
State of Georgia | 6/10/2005 | −0728 thru 0728.11 | 1/20/2006 | −0738.
Dynegy Midwest Generation | 6/13/2005 | −0721 and −0726 | 1/20/2006 | −0739.
Midwest Ozone Group/West Virginia Chamber of Commerce | 3/28/2006 | −0744 | 8/16/2007 | −0746 and −0746.1.
Oakland County, MI (second petition) | 3/21/2006 | −0747 thru 0751 | 9/25/2007 | −0764.

All documents in the docket are listed on the www.regulations.gov Web site. Although listed in the index, some information is not publicly available, e.g., confidential business information (CBI) or other information whose disclosure is restricted by statute. Certain other material, such as copyrighted material, is not placed on the Internet and will be publicly available only in hard copy form. Publicly available docket materials are available either electronically through www.regulations.gov or in hard copy at the EPA Docket Center (Air Docket), EPA/DC, EPA West, Room 3334, 1301 Constitution Ave., NW., Washington, DC. The Public Reading Room is open from 8:30 a.m. to 4:30 p.m., Monday through Friday, excluding legal holidays. The telephone number for the Public Reading Room is (202) 566-1744 and the telephone number for the Air Docket is (202) 566-1742.

This Federal Register notice, the petitions for reconsideration, and the letters denying the petitions can also be found on EPA's Web site http://www.epa.gov/pmdesignations/regs.htm. The air quality designations for the fine particle NAAQS were published in the Federal Register on January 5, 2005 at 70 FR 944. A supplemental notice was published in the Federal Register on April 14, 2005 at 70 FR 19844.

II. Judicial Review

Section 307(b)(1) of the Act indicates which Federal Courts of Appeal have venue for petitions for review of final actions by EPA. This section provides, in part, that petitions for review must be filed in the Court of Appeals for the District of Columbia Circuit if: (i) The agency action consists of “nationally applicable regulations promulgated, or final action taken, by the Administrator,” or (ii) such actions are locally or regionally applicable, if “such action is based on a determination of nationwide scope or effect and if in taking such action the Administrator finds and publishes that such action is based on such a determination.”

The EPA has determined that its actions denying the petitions for reconsideration are of nationwide scope and effect for purposes of section 307(b)(1) because EPA previously found that the air quality designations for the PM2.5 NAAQS, which establish designations for all areas of the United States, to be of nationwide scope and effect. Thus, any petitions for review of the letters denying the petitions for reconsideration described in this Notice must be filed in the Court of Appeals for the District of Columbia Circuit within 60 days from the date this Notice is published in the Federal Register.

Dated: October 30, 2007.
Stephen L. Johnson,
Administrator.

[FR Doc. E7-21681 Filed 11-2-07; 8:45 am]

BILLING CODE 6560-50-P